DEPARTMENT OF THE TREASURY

Customs Service

Fee for Electronic Fingerprinting

AGENCY: Customs Service, Treasury.

ACTION: General notice.

SUMMARY: This document announces the fee for fingerprinting at airports at which there is a computerized fingerprint identification system for the use of conducting background checks on airline and airport employees who require unescorted access to Federal Inspection Service areas of an airport. The fee will be $39.00.

EFFECTIVE DATES: July 11, 2000.

FOR FURTHER INFORMATION CONTACT: Linda Slattery, U. S. Customs Service, Office of Field Operations, Passenger Programs, Room 5.4D, 1300 Pennsylvania Avenue, NW, Washington, DC, 20029, Tel. (202) 927-4434.

SUPPLEMENTARY INFORMATION:

Background

Customs requires fingerprints to conduct background checks for various reasons. See, T.D. 93-18 (58 FR 15770, dated March 24, 1993). In a Federal Register notice published March 3, 1998 (63 FR 10426) Customs announced that the fingerprint fee was $20.70. This fee was for manually conducting fingerprinting on fingerprint cards. The manual processing of fingerprint cards takes an average of four to seven weeks.

Customs is now implementing, at certain airports, a computerized fingerprint identification system for the use of conducting background checks on airline and airport employees who require unescorted access to Federal Inspection Service areas of an airport. This system employs an automated fingerprint reading devise that electronically transmits the fingerprint data directly to the Federal Bureau of Investigation (FBI) where a criminal history background search can be conducted within 24 hours, instead of the four to seven weeks it normally takes to process fingerprint cards. Where implemented, this computerized fingerprinting system will be used in lieu of collecting fingerprints on cards.

The fee for this computerized fingerprinting will be $39.00. This fee is based on Customs recovering the FBI user-fee that is charged to Customs for conducting fingerprint checks and Customs administrative processing costs associated with the collection of fingerprints, which include the compensation and/or expenses of Customs officers performing the fingerprint service and 15% of that amount to cover Customs administrative overhead costs.

Dated: July 5, 2000.
Charles W. Winwood,
Deputy Commissioner.

[FR Doc. 00-17462 Filed 7-10-00; 8:45 am]

BILLING CODE 4820-02-P